DEPARTMENT OF LABOR

Pension and Welfare Benefits Administration

Proposed Extension of Information Collection Request Submitted for Public Comment and Recommendations; Definition of “Plan Assets”—Participant Contributions

ACTION: Notice.

SUMMARY: The Department of Labor (the Department), as part of its continuing effort to reduce paperwork and respondent burden, provides the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and the impact of collection requirements on respondents can be properly assessed. Currently, the Pension and Welfare Benefits Administration is soliciting comments concerning the proposed extension of a currently approved collection of information, Definition of Plan Assets—Participant Contributions, 29 CFR 2510.3-102. A copy of the proposed information collection request can be obtained by contacting the individual listed below in the addresses section of this notice.

DATES: Written comments must be submitted on or before February 24, 2003.

ADDRESSES: Gerald B. Lindrew, Department of Labor, Pension and Welfare Benefits Administration, 200 Constitution Avenue, NW., Washington, DC 20210, (202) 693-8410 (not a toll-free number), FAX (202) 219-4745.

SUPPLEMENTARY INFORMATION:

I. Background

The regulation provides guidance for fiduciaries, participants, and beneficiaries of employee benefit plans on the requirements for transmission of employee contributions withheld from wages to the pension plan. In addition, for those employers who may have difficulty meeting regulation deadlines for participant contribution transmissions, the extension provision of the regulation provides an alternate means of employer compliance with the regulation while providing participants, beneficiaries, and the Department with sufficient information to protect their rights under ERISA. Specifically, the ICR includes notification, bonding, and certification requirements that must be completed by the employer electing to use the extension provision.

II. Desired Focus of Comments

• The Department of Labor (Department) is particularly interested in comments which evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Extension of the information collection provision of the regulation is important because delays in the transmittal of funds may result in lost earnings to pension plan participants and beneficiaries. This notice requests comments on the extension of the ICR included in the regulation governing the definition of “plan assets.” The Department is not proposing or implementing changes to the existing ICR at this time.

Type of Review: Extension of a currently approved information collection.

Agency: Pension and Welfare Benefits Administration.

Title: Definition of Plan Assets—Participant Contributions.

OMB Number: 1210-0100.

Affected Public: Business or other for-profit; not-for-profit institutions; individuals.

Number of Respondents: 1.

Frequency: On occasion.

Number of Annual Responses: 251.

Total Burden Hours: 3.

Total Burden Cost (Operating and Maintenance): $300.

Comments submitted in response to this notice will be summarized and/or included in the request for Office of Management and Budget approval of the information collection request; they will also become a matter of public record.

Dated: December 18, 2002.
Joseph S. Piacentini,
Deputy Director, Office of Policy and Research, Pension and Welfare Benefits Administration.

[FR Doc. 02-32366 Filed 12-23-02; 8:45 am]

BILLING CODE 4510-29-P